NUCLEAR REGULATORY COMMISSION

[NRC-2013-0001]

Sunshine Act Meetings Notice

DATES: Weeks of September 23, 30, October 7, 14, 21, 28, 2013.

PLACE: Commissioners' Conference Room, 11555 Rockville Pike, Rockville, Maryland.

STATUS: Public and Closed.

Week of September 23, 2013

There are no meetings scheduled for the week of September 23, 2013.

Week of September 30, 2013—Tentative

There are no meetings scheduled for the week of September 30, 2013.

Week of October 7, 2013—Tentative

There are no meetings scheduled for the week of October 7, 2013.

Week of October 14, 2013—Tentative

Wednesday, October 16, 2013

1:00 p.m. Briefing on Flooding and Other Extreme Weather Events (Public Meeting) (Contact: George Wilson, 301-415-1711)

This meeting will be webcast live at the Web address— http://www.nrc.gov/.

Friday, October 18, 2013

9:00 a.m. Meeting with the Advisory Committee on the Medical Uses of Isotopes (Public Meeting) (Contact: Sophie Holiday, 301-415-7865)

This meeting will be webcast live at the Web address— http://www.nrc.gov/.

1:00 p.m. Briefing on Proposed Rulemaking Concerning the Medical Use of Byproduct Material (Public Meeting) (Contact: Ashley Cockerham, 240-888-7129)

This meeting will be webcast live at the Web address— http://www.nrc.gov/.

Week of October 21, 2013—Tentative

There are no meetings scheduled for the week of October 21, 2013.

Week of October 28, 2013—Tentative

Thursday, October 31, 2013

10:00 a.m. NRC All Employees Meeting (Public Meeting) Marriott Bethesda North Hotel 5701 Marinelli Road, Rockville, MD 20852

* * * * *

The schedule for Commission meetings is subject to change on short notice. To verify the status of meetings, call (recording)—301-415-1292. Contact person for more information: Rochelle Bavol, 301-415-1651.

* * * * *

The NRC Commission Meeting Schedule can be found on the Internet at: http://www.nrc.gov/public-involve/public-meetings/schedule.html.

* * * * *

The NRC provides reasonable accommodation to individuals with disabilities where appropriate. If you need a reasonable accommodation to participate in these public meetings, or need this meeting notice or the transcript or other information from the public meetings in another format (e.g. braille, large print), please notify Kimberly Meyer, NRC Disability Program Manager, at 301-287-0727, or by email at Kimberly.Meyer-Chambers@nrc.gov. Determinations on requests for reasonable accommodation will be made on a case-by-case basis.

* * * * *

Members of the public may request to receive this information electronically. If you would like to be added to the distribution, please contact the Office of the Secretary, Washington, DC 20555 (301-415-1969), or send an email to Darlene.Wright@nrc.gov.

September 19, 2013.
Rochelle C. Bavol,
Policy Coordinator, Office of the Secretary.

[FR Doc. 2013-23310 Filed 9-20-13; 4:15 pm]

BILLING CODE 7590-01-P